ENVIRONMENTAL PROTECTION AGENCY

40 CFR Part 52

[EPA-R04-OAR-2005-KY-0002-200531(d); FRL-8187-5]

Approval and Promulgation of Implementation Plans and Designation of Areas for Air Quality Planning Purposes; Kentucky; Redesignation of the Boyd County SO2 Nonattainment Area; Correction

AGENCY: Environmental Protection Agency (EPA).

ACTION: Proposed rule; correction.

SUMMARY: On May 24, 2006 (71 FR 29878), EPA published a proposed document redesignating the Boyd County, Kentucky area to attainment for SO2. The Federal Docket Management System (FDMS) docket number was incorrectly referenced. This document corrects the docket number.

DATES: This action is effective June 22, 2006.

ADDRESSES: Copies of the documentation used in the action being corrected are available for inspection during normal business hours at the following location: U.S. Environmental Protection Agency, Region 4, 61 Forsyth Street, SW., Atlanta, Georgia 30303-8960. The Regional Office's official hours of business are Monday through Friday, 8:30 to 4:30, excluding Federal holidays.

FOR FURTHER INFORMATION CONTACT: Stacy DiFrank, Regulatory Development Section, Air Planning Branch, Air, Pesticides and Toxics Management Division, U.S. Environmental Protection Agency, Region 4, 61 Forsyth Street, SW., Atlanta, Georgia 30303-8960. The telephone number is (404) 562-9042. Ms. DiFrank can also be reached via electronic mail at difrank.stacy@epa.gov.

SUPPLEMENTARY INFORMATION: EPA is making a correction to the document published on May 24, 2006, (71 FR 29878), approving a Kentucky SIP revision which redesignated the Boyd County Area to attainment for SO2. The FDMS docket number “R04-OAR-2005-KY-0002” was inadvertently stated in the May 24, 2006, document. The FDMS docket number in the heading on page 29878 of the proposed rule should read as follows: “EPA-R04-OAR-2005-KY-0002.”

List of Subjects in 40 CFR Part 52

Environmental protection, Air pollution control, Intergovernmental relations, Nitrogen dioxide, Ozone, Particulate matter, Reporting and recordkeeping requirements, Volatile organic compounds.

Authority: 42 U.S.C. 7401 et seq.

Dated: June 12, 2006.
A. Stanley Meiburg,
Acting Regional Administrator, Region 4.

[FR Doc. 06-5603 Filed 6-21-06; 8:45 am]

BILLING CODE 6560-50-P